DEPARTMENT OF THE INTERIOR

Bureau of Land Management

[OR-130-1020-XU; GPO-0245]

Notice of the Meeting of the Eastern Washington Advisory Council; June 22, 2000, in Spokane, Washington

AGENCY: Bureau of Land Management, Spokane District.

SUMMARY: A meeting of the Eastern Washington Resource Advisory Council will be held on June 22, 2000. The meeting will convene at 9 a.m., at the Spokane District Office, Bureau of Land Management, 1103 North Fancher Road, Spokane, Washington, 99212-1275. The meeting will adjourn upon conclusion of business, but no later than 4 p.m. Public comments will be heard from 10:00 a.m. until 10:30 a.m. If necessary, to accommodate all wishing to make public comments, a time limit may be placed upon each speaker. At an appropriate time, the meeting will adjourn for approximately one hour for lunch. The Topic to be discussed is the Interior Columbia Basin Ecosystem Management Project (ICBEMP).

FOR FURTHER INFORMATION CONTACT: Bureau of Land Management, Spokane District Office, 1103 N. Fancher Road, Spokane, Washington, 99212; or call 509-536-1200.

Dated June 2, 2000.
Joseph K. Buesing,
District Manager.

[FR Doc. 00-14431 Filed 6-7-00; 8:45 am]

BILLING CODE 4310-33-U